DEPARTMENT OF AGRICULTURE

Animal and Plant Health Inspection Service

[Docket No. APHIS-2006-0062]

Notice of Request for Extension of Approval of an Information Collection; Plant Pest, Noxious Weed, and Garbage Regulations

AGENCY: Animal and Plant Health Inspection Service, USDA.

ACTION: Extension of approval of an information collection; comment request.

SUMMARY: In accordance with the Paperwork Reduction Act of 1995, this notice announces the Animal and Plant Health Inspection Service's intention to request an extension of approval of an information collection associated with plant pest, noxious weed, and garbage regulations.

DATES: We will consider all comments that we receive on or before July 25, 2006.

ADDRESSES: You may submit comments by either of the following methods:

Federal eRulemaking Portal: Go to http://www.regulations.gov and, in the lower “Search Regulations and Federal Actions” box, select “Animal and Plant Health Inspection Service” from the agency drop-down menu, then click on “Submit.” In the Docket ID column, select APHIS-2006-0062 to submit or view public comments and to view supporting and related materials available electronically. Information on using Regulations.gov, including instructions for accessing documents, submitting comments, and viewing the docket after the close of the comment period, is available through the site's “User Tips” link.

Postal Mail/Commercial Delivery: Please send four copies of your comment (an original and three copies) to Docket No. APHIS-2006-0062, Regulatory Analysis and Development, PPD, APHIS, Station 3A-03.8, 4700 River Road Unit 118, Riverdale, MD 20737-1238. Please state that your comment refers to Docket No. APHIS-2006-0062.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: For information regarding plant pest, noxious weed, and garbage regulations, contact Mr. Robert Flanders, Branch Chief, Permits, Registration and Imports, PPQ, APHIS, 4700 River Road Unit 33, Riverdale, MD 20737-1231; (301) 734-5930. For copies of more detailed information on the information collection, contact Mrs. Celeste Sickles, APHIS' Information Collection Coordinator, at (301) 734-7477.

SUPPLEMENTARY INFORMATION: Title: Plant Pest, Noxious Weed, and Garbage Regulations.

OMB Number: 0579-0054.

Type of Request: Extension of approval of an information collection.

Abstract: The Animal and Plant Health Inspection Service (APHIS) is authorized, among other things, to prohibit the importation and interstate movement of plants, animals, plant and animal products, noxious weeds, and other articles to prevent the introduction into and dissemination within the United States of plant and animal pests and diseases and noxious weeds.

In connection with this mission, APHIS regulates the importation and interstate movement of plant pests, noxious weeds, and waste material derived from plant or animal matter (commonly referred to as garbage) under 7 CFR parts 330 and 360 and 9 CFR part 94.

These regulations contain information collection requirements, including requirements to apply for permits to import regulated articles (e.g., plant pests, noxious weeds, or soil) or to move regulated articles interstate, requirements for facilities to be approved by APHIS to dispose of regulated garbage, and requirements for any person engaged in the business of handling or disposing of regulated garbage to first enter into a compliance agreement with APHIS. These requirements are necessary to ensure that importation and interstate movement of regulated articles, and disposal of regulated garbage, occur under appropriate conditions to prevent the dissemination of plant and animal pests and diseases and noxious weeds.

We are asking the Office of Management and Budget (OMB) to approve our use of these information collection activities for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the information collection, including the validity of the methodology and assumptions used;

(3) Enhance the quality, utility, and clarity of the information to be collected; and

(4) Minimize the burden of the information collection on those who are to respond, through use, as appropriate, of automated, electronic, mechanical, and other collection technologies, e.g., permitting electronic submission of responses.

Estimate of burden: The public reporting burden for this collection of information is estimated to average 0.7172025 hours per response.

Respondents: Importers and shippers of plant pests, noxious weeds, and other regulated articles; State plant health authorities; owners/operators of regulated garbage-handling facilities.

Estimated annual number of respondents: 56,940.

Estimated annual number of responses per respondent: 1.26185.

Estimated annual number of responses: 71,850.

Estimated total annual burden on respondents: 51,531 hours. (Due to averaging, the total annual burden hours may not equal the product of the annual number of responses multiplied by the reporting burden per response.)

All responses to this notice will be summarized and included in the request for OMB approval. All comments will also become a matter of public record.

Done in Washington, DC, this 22nd day of May 2006.
Elizabeth E. Gaston,
Acting Administrator, Animal and Plant Health Inspection Service.

[FR Doc. E6-8152 Filed 5-25-06; 8:45 am]

BILLING CODE 3410-34-P